DEPARTMENT OF THE INTERIOR

Bureau of Land Management

[UT-090-06-1220-PM]

Revision of Recreation Use Restrictions for Indian Creek Canyon Corridor: Closure of the Newspaper Rock Camping Area: Notice of Closure of 987 Acres of Public Land to Camping

AGENCY: Bureau of Land Management, Interior.

ACTION: Notice of closure.

SUMMARY: Notice is hereby given that effective immediately, the Bureau of Land Management (BLM), Monticello Field Office, is closing 987 acres of public lands in the Indian Creek Canyon near Monticello, Utah, to overnight camping. The public lands affected by this closure are located along Utah State Highway 211, in the following sections of T. 31 S., R. 22 E., section 31, W½ and in sections of T. 32 S., R. 22 E., section 5, SW¼; section 6, E½; section 7, E½; section 8, W½; section 14, SW¼; section 15, SE¼; section 16, SW¼; section 17; section 20, NE¼; section 21, N½; section 22, N½. The purpose of the closure is to provide for public health and safety, and to protect soils and vegetation that have been adversely impacted or are at risk of being adversely impacted by recreational use. The closure will remain in effect until further notice.

FOR FURTHER INFORMATION CONTACT: Sandra Meyers, Field Office Manager, Monticello Field Office, Bureau of Land Management, P.O. Box 7, Monticello, Utah 84535; (435) 587-1500.

SUPPLEMENTARY INFORMATION: The BLM is implementing this action on 987 acres of public land in San Juan County, in southeast Utah. The BLM's Monticello Field Office has observed and documented a high probability of flash flood danger in the Newspaper Rock Area. Adverse effects to soils and vegetation from overnight camping use are also present in the area. Based on this information, BLM's authorized officer has determined that overnight camping in this area is causing, or will cause, unsafe camping opportunities for the public and considerable adverse effects upon soils and vegetation. Consequently, this area is being closed to overnight camping use. A map showing the closure area is available for public inspection at the BLM's Monticello Field Office, at the above address. Camping use on the remainder of the public lands in San Juan County, Utah, administered by the BLM, will be managed according to existing Federal Register orders and the 1991 San Juan Resource Area Resource Management Plan. This closure order does not apply to:

(1) Any Federal, state or local government law enforcement officer engaged in enforcing this closure order or member of an organized rescue or fire fighting force while in the performance of an official duty.

(2) Any BLM employee, agent, contractor, or cooperator while in the performance of an official duty.

This order shall not be construed as a limitation on BLM's future planning efforts. The BLM will periodically monitor resource conditions and trends in the closure area and may modify this order or implement additional limitations or closures as necessary.

The authority for this order is 43 CFR 8364.1(a) and 9268.3(d).

Dated: January 9, 2007.
Sandra A. Meyers,
Field Office Manager.

[FR Doc. E7-2415 Filed 2-13-07; 8:45 am]

BILLING CODE 4310-DQ-P